INTERNATIONAL TRADE COMMISSION

[USITC SE-12-025]

Government in the Sunshine Act Meeting Notice

AGENCY HOLDING THE MEETING: United States International Trade Commission.

TIME AND DATE: September 12, 2012 at 9:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. No. 731-TA-895 (Second Review) (Pure Magnesium (Granular) from China). The Commission is currently scheduled to transmit its determination and Commissioners' opinions to the Secretary of Commerce on or before September 25, 2012.

5. Outstanding action jackets: None.

In accordance with Commission policy, subject matter listed above, not disposed of at the scheduled meeting, may be carried over to the agenda of the following meeting. Earlier announcement of this meeting was not possible.

Issued: September 6, 2012.
By order of the Commission.
William R. Bishop,
Hearings and Meetings Coordinator.

[FR Doc. 2012-22372 Filed 9-7-12; 11:15 am]

BILLING CODE 7020-02-P